ENVIRONMENTAL PROTECTION AGENCY

40 CFR Part 52

[EPA-R04-OAR-2007-0113-200709(b); FRL-9098-4 ]

Approval and Promulgation of Implementation Plans; Georgia: State Implementation Plan Revision

AGENCY: Environmental Protection Agency (EPA).

ACTION: Proposed rule.

SUMMARY: EPA is proposing to approve revisions to the Georgia State Implementation Plan (SIP), submitted by the Georgia Environmental Protection Division on September 26, 2006, with a clarifying revision submitted on November 6, 2006. The proposed revisions include multiple modifications to Georgia's Air Quality Rules found at Chapter 391-3-1. These revisions are part of Georgia's strategy to meet the national ambient air quality standards. EPA is proposing to approve Georgia's SIP revisions pursuant to section 110 of the Clean Air Act.

EPA is not acting on revisions to rules 391-3-1-.01(qqqq), 391-3-1-.02(2)(zz), 391-3-1-.02(2)(mmm), 391-3-1-.02(6)(a), 391-3-1-.03(6)(g), and 391-3-1-.03(6)(i) at this time. EPA is also not acting on revisions to rule 391-3-1-02(2)(ooo), as Georgia has submitted a revised version of the rule. Additionally, we are not acting on several revisions to the September 26, 2006, SIP submittal, that are not part of the federally approved SIP.

DATES: Written comments must be received on or before March 11, 2010.

ADDRESSES: Submit your comments, identified by Docket ID Number, “EPA-R04-OAR-2007-0113,” by one of the following methods:

1. http://www.regulations.gov: Follow the on-line instructions for submitting comments.

2. E-mail: benjamin.lynorae@epa.gov.

3. Fax: 404-562-9019.

4. Mail: “EPA-R04-OAR-2007-0113,” Regulatory Development Section, Air Planning Branch, Air, Pesticides and Toxics Management Division, U.S. Environmental Protection Agency, Region 4, 61 Forsyth Street, SW., Atlanta, Georgia 30303-8960.

5. Hand Delivery or Courier: Ms. Lynorae Benjamin, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 a.m. to 4:30 p.m., excluding federal holidays.

Please see the direct final rule which is located in the Rules section of this Federal Register for detailed instructions on how to submit comments.

FOR FURTHER INFORMATION CONTACT: Stacy Harder, Regulatory Development Section, Air Planning Branch, Air, Pesticides and Toxics Management Division, U.S. Environmental Protection Agency, Region 4, 61 Forsyth Street, SW., Atlanta, Georgia 30303-8960. The telephone number is (404) 562-9042. Ms. Harder can also be reached via electronic mail at harder.stacy@epa.gov.

SUPPLEMENTARY INFORMATION: In the Final Rules Section of this Federal Register, EPA is approving the State's SIP revision as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

For additional information see the direct final rule which is published in the Rules Section of this Federal Register.

Dated: December 11, 2009.
Beverly H. Banister,
Acting Regional Administrator, Region 4.

[FR Doc. 2010-2707 Filed 2-8-10; 8:45 am]

BILLING CODE 6560-50-P